DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce that the following Federal Advisory Committee meeting of the Defense Business Board (“the Board”) will take place.

DATES: Closed to the public Wednesday, February 1, 2023 from 9:40 to 11:30 a.m., from 12:25 to 1:30 p.m., from 2:10 to 3:45 p.m., and from 5:30 to 7:35 p.m. Open to the public Thursday, February 2, 2023 from 9 a.m. to 12:35 p.m. All Eastern time.

ADDRESSES: The open and closed portions of the meeting will be in rooms 1E840 and 4D880 in the Pentagon, Washington DC, and at the Defense Logistics Agency Headquarters, Ft. Belvoir, VA. The public portions of the meeting will be conducted by teleconference only. To participate in the public portions of the meeting, see the Meeting Accessibility section for instructions.

FOR FURTHER INFORMATION CONTACT: Ms. Jennifer Hill, Designated Federal Officer (DFO) of the Board in writing at Defense Business Board, 1155 Defense Pentagon, Room 5B1088A, Washington, DC 20301-1155; or by email at jennifer.s.hill4.civ@mail.mil; or by phone at 571-342-0070.

SUPPLEMENTARY INFORMATION: Due to circumstances beyond the control of the Designated Federal Officer, the Defense Business Board was unable to provide public notification required by 41 CFR 102-3.150(a) concerning its February 1-2, 2023 meeting. Accordingly, the Advisory Committee Management Officer for the Department of Defense, pursuant to 41 CFR 102-3.150(b), waives the 15-calendar day notification requirement.

This meeting is being held under the provisions of the Federal Advisory Committee Act (FACA) (5 U.S.C., App.), the Government in the Sunshine Act (5 U.S.C. 552b), and 41 CFR 102-3.140 and 102-3.150.

Purpose of the Meeting: The mission of the Board is to examine and advise the Secretary of Defense on overall DoD management and governance. The Board provides independent, strategic-level, private sector and academic advice and counsel on enterprise-wide business management approaches and best practices for business operations and achieving National Defense goals.

Agenda: The Board will begin in closed session on February 1 from 9:40 to 11:30 a.m. The DFO, Ms. Jennifer Hill will open the session, followed by a classified brief on What the Department is doing to Speed the Transition of Cutting-edge Technology to the Battlefield and Avoid the `Valley of Death' from Deputy Secretary of Defense, Hon. Kathleen Hicks. After a short break, the Board will receive a classified brief on Building the Fleet of the Future Despite the Industrial Challenges of the Present from Secretary of the Navy, Hon. Carlos Del Toro. The DFO will then adjourn the closed session. The Board will reconvene in closed session on February 1 at 12:25 p.m. The DFO will open the closed session, followed by a classified brief on Current Events in National Security by the Chairman of the Joint Chiefs of Staff, GEN Mark Milley. The DFO will adjourn the closed session. The Board will travel to Defense Logistics Agency Headquarters (DLA) at Fort Belvoir and reconvene in closed session on February 1 at 2:10 p.m. with a classified brief on Current Challenges Impacting DoD Supply Chains from VADM Michelle Skubic, USN, Director, DLA or Mr. Brad Bunn, Vice Director, DLA. The DFO will adjourn the closed session, and the Board will return to the Pentagon. The Board will meet in closed session February 1 from 5:30 to 7:35 p.m. The DFO will open the closed session followed by remarks by Board Chair, Hon. Deborah James and Deputy Secretary, Hon. Kathleen Hicks. Next, the Board will receive a classified brief on Key Challenges to Recruiting, Retention, and Readiness by Secretary of the Army, Hon. Christine Wormuth. The DFO will adjourn the closed session. The Board will begin in open session on February 2 from 9 a.m. to 12:35 p.m. The DFO will open the session and Hon. Deborah James will provide a Chair's welcome to members and guests. Next, the Chair of the Business Operations Advisory Subcommittee, Mr. David Beitel will lead the presentation, deliberation, and vote on the IT User Experience Study. The Chair of the Talent Management, Culture & Diversity Subcommittee, Ms. Jennifer McClure will then lead the presentation, deliberation, and vote on Building a Civilian Talent Pipeline Study. Hon. Deborah James, Board Chair will provide closing remarks and the DFO will adjourn the open session. The latest version of the agenda will be available on the Board's website at: https://dbb.defense.gov/Meetings/Meeting-February-2023/.

Meeting Accessibility: In accordance with Section 10(d) of the FACA and 41 CFR 102-3.155, it is hereby determined that portions of the February 1-2 meeting of the Board will include classified information and other matters covered by 5 U.S.C. 552b(c)(1) and that, accordingly, the meeting will be closed to the public on February 1, 2023 from 9:40 to 11:30 a.m., from 12:25 to 1:30 p.m., from 2:10 to 3:45 p.m., and from 5:30 to 7:35 p.m. This determination is based on the consideration that it is expected that discussions throughout these periods will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and to the Deputy Secretary of Defense. Pursuant to section 10(a)(1) of the FACA and 41 CFR 102-3.140, the portion of the meeting on February 2 from 9 a.m. to 12:35 p.m. is open to the public via teleconference. Persons desiring to attend the public session are required to register. To attend the public session, submit your name, affiliation/organization, telephone number, and email contact information to the Board at osd.pentagon.odam.mbx.defense-business-board@mail.mil. Requests to attend the public session must be received no later than 4 p.m. on Monday, January 30, 2023. Upon receipt of this information, the Board will provide further instructions for telephonically attending the meeting.

Written Comments and Statements: Pursuant to 41 CFR 102-3.105(j) and 102-3.140 and section 10(a)(3) of the FACA, the public or interested organizations may submit written comments or statements to the Board in response to the stated agenda of the meeting or regarding the Board's mission in general. Written comments or statements should be submitted to Ms. Jennifer Hill, the DFO, via electronic mail (the preferred mode of submission) at the address listed in the FOR FURTHER INFORMATION CONTACT section. Each page of the comment or statement must include the author's name, title or affiliation, address, and daytime phone number. The DFO must receive written comments or statements submitted in response to the agenda set forth in this notice by Monday, January 30, 2023, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: January 13, 2023.
Aaron T. Siegel,
Alternate OSD Federal Register Liaison Officer, Department of Defense.

[FR Doc. 2023-01013 Filed 1-19-23; 8:45 am]

BILLING CODE 5001-06-P